DEPARTMENT OF COMMERCE

National Oceanic and Atmospheric Administration

RIN 0648-XB130

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held April 16-19, 2012.

ADDRESSES: The meeting will be held at the Omni Bayfront Hotel, 900 N. Shoreline Boulevard, Corpus Christi, TX 78401; telephone: (361) 887-1600.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, April 16, 2012

1 p.m.-2 p.m.—Scientific & Statistical Committee (SSC) Selection Committee will discuss duties and responsibilities of the SSC and receive a presentation on Detailed “Option 3”.

2 p.m.-3 p.m.—Budget/Personnel Committee will review the Executive Director's Evaluation Process, the 2012 Proposed Budget and an Overview of Future Funding.

3 p.m.-4 p.m.—Outreach and Education Committee will review the Crisis Communication Plan and receive an update on the Stakeholder's Survey.

4 p.m.-4:30 p.m.—Artificial Reef Committee will discuss Artificial Reefs as Essential Fish Habitat.

4:30 p.m.-5:30 p.m.—Budget/Personnel Committee—Full Council (CLOSED SESSION)

—Recess—

Tuesday, April 17, 2012

8:30 a.m.-12 noon and 1:30 p.m.—5:30 p.m.—Reef Fish Management Committee will meet to discuss the Update of the Red Snapper 5-Year IFQ Review; review Scoping Documents for Amendment 28—Grouper Allocation and Amendment 33—Limited Access Privilege Program; take Final Action on Amendment 35—Greater Amberjack; review a Scoping Document for Red Snapper Provisions for Overage Adjustments; discuss an Interim Rule on Gray Triggerfish Annual Catch Limit & In-Season Closure Authority; review a Draft Options Paper for Amendment 37—Gray Triggerfish Management Measures; discuss a Framework Action on Contractual Services for the For-Hire Sector; discuss Sector Separation; review an Options Paper for Amendment 38—Revise Post-Season Recreational Accountability Measures for Shallow-water Grouper; receive a summary from the Goliath Grouper Workgroup Meeting and review and discuss the Pilot Studies Design for Headboat IFQ and Days at Sea.

—Recess—

Immediately following the Committee Recess will be the Informal Question & Answer Session on Gulf of Mexico Fishery Management Issues.

Wednesday, April 18, 2012

8:30 a.m.-9 a.m.—The Coral Management Committee will review a report from the Special Coral Scientific & Statistical Committee.

9 a.m.-10 a.m.—The Data Collection Committee will review the MRIP Calibration Workshop summary; discuss a Generic Amendment for Dealer Permit/Electronic Logbook Reporting Requirements; receive an update on Electronic Reporting for Headboats and for the For-Hire Sector.

10 a.m.-11:30 a.m.—The Mackerel Management Committee will review Options Papers for Amendment 19—No Sale and Permits and for Amendment 20—Boundaries and Transit Provisions.

—Recess—

Council

Wednesday, April 18, 2012

1 p.m.—The Council meeting will begin with a Call to Order and Introductions.

1:05 p.m.-1:15 p.m.—The Council will review the agenda and approve the minutes.

1:15 p.m.-1:45 p.m.—The Council will approve a revised Committee Roster; review the Action Schedule; and review Exempted Fishing Permits (EFP), if any.

1:45 p.m.-5:30 p.m.—The Council will receive public testimony on Final Reef Fish Amendment 35—Greater Amberjack; an Interim Rule for Gray Triggerfish Annual Catch Limit & In-Season Closure Authority; and exempted fishing permits (EFPs), if any. The Council will also hold an open public comment period regarding any other fishery issues of concern. People wishing to speak before the Council should complete a public comment card prior to the comment period.

Thursday, April 19, 2012

8:30 a.m.-3 p.m.—The Council will review and discuss reports from the committee meetings as follows: Scientific & Statistical Committee Selection, Outreach & Education, Reef Fish, Budget/Personnel, Artificial Reef, Coral, Data Collection, and Mackerel.

3 p.m.-3:15 p.m.—Discussion on Exempted Fishing Permits (if any) will take place.

3:15 p.m.-3:45 p.m.—Other Business items will follow.

The Council will conclude its meeting at approximately 3:45 p.m.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: March 27, 2012.
Tracey L. Thompson,
Acting Director, Office of Sustainable Fisheries, National Marine Fisheries Service.

[FR Doc. 2012-7659 Filed 3-29-12; 8:45 am]

BILLING CODE 3510-22-P